DEPARTMENT OF COMMERCE

International Trade Administration

[A-570-172]

Vanillin From the People's Republic of China: Final Affirmative Determination of Sales at Less Than Fair Value

AGENCY: Enforcement and Compliance, International Trade Administration, Department of Commerce.

SUMMARY: The U.S. Department of Commerce (Commerce) determines that vanillin from the People's Republic of China (China) is being, or is likely to be, sold in the United States at less than fair value (LTFV). The period of investigation is October 1, 2023, through March 31, 2024.

DATES: Applicable June 6, 2025.

FOR FURTHER INFORMATION CONTACT: Claudia Cott or Bryan Hansen, AD/CVD Operations, Office I, Enforcement and Compliance, International Trade Administration, U.S. Department of Commerce, 1401 Constitution Avenue NW, Washington, DC 20230; telephone: (202) 482-4270 or (202) 482-3683, respectively.

SUPPLEMENTARY INFORMATION:

Background

On January 16, 2025, Commerce published the Preliminary Determination in the Federal Register and invited interested parties to comment.¹ For a complete description of the events that followed the Preliminary Determination, see the Issues and Decision Memorandum.²

¹ See Vanillin from the People's Republic of China: Preliminary Affirmative Determination of Sales at Less Than Fair Value, Postponement of Final Determination and Extension of Provisional Measures, 90 FR 4720 (January 16, 2025) (Preliminary Determination), and accompanying Preliminary Decision Memorandum (PDM).

² See Memorandum, “Issues and Decision Memorandum for the Final Affirmative Determination in the Less-Than-Fair-Value Investigation of Vanillin from the People's Republic of China,” dated concurrently with, and hereby adopted by, this notice (Issues and Decision Memorandum).

The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Scope of the Investigation

The product covered by this investigation is vanillin from China. For a complete description of the scope of this investigation, see Appendix I.

Scope Comments

We received no comments from interested parties on the scope of the investigation as it appeared in the Preliminary Determination. Therefore, we made no changes to the scope of the investigation from that published in the Preliminary Determination for the final determination.

Verification

As provided in section 782(i) of the Tariff Act of 1930, as amended (the Act), Commerce conducted verification of the sales and factors of production information submitted by Jiangxi Brother Pharmaceutical Co., Ltd. (Jiangxi Brother).³ We used standard verification procedures, including an examination of relevant sales and accounting records, and original source documents provided by Jiangxi Brother.

³ See Memorandum, “Verification of Jiangxi Brother Pharmaceutical Co., Ltd.,” dated April 10, 2025.

Analysis of Comments Received

All issues raised in the case and rebuttal briefs submitted by interested parties in this investigation are addressed in the Issues and Decision Memorandum. A list of the issues addressed in the Issues and Decision Memorandum is attached to this notice as Appendix II.

Changes Since the Preliminary Determination

Based on a review of the record and comments received from interested parties regarding the Preliminary Determination, and in consideration of Commerce's verification findings, we made changes consistent with the pre-verification minor corrections and our verification findings with respect to Jiangxi Brother.⁴

⁴ For a full description of these changes, see Issues and Decision Memorandum.

China-Wide Entity and Use of Adverse Facts Available

Consistent with the Preliminary Determination,⁵ Commerce continues to find that, pursuant to sections 776(a) and (b) of the Act, the use of facts otherwise available, with adverse inferences, is warranted in determining the dumping rate for the China-wide entity.⁶ For this final determination, there is no new information on the record that would cause us to reconsider our preliminary decision. Therefore, as facts available with adverse inference, we assigned the final rate of 379.87 percent, which is the highest individual sale margin calculated in this investigation,⁷ to the China-wide entity.

⁵ See Preliminary Determination PDM at 11-13.

⁶ See sections 776(a)(1) and (2)(A)-(C) and (b) of the Act.

⁷ See Memorandum, “Final Analysis Memorandum,” dated concurrently with this notice (Final Analysis Memorandum) at 3, for business proprietary details explaining our continued assignment of this margin to the China-wide entity.

Separate Rates

We received comments ⁸ on our preliminary separate rate determination.⁹ Based on our analysis of the comments received, our preliminary determination with respect to separate rate eligibility continues to be unchanged in the final determination.¹⁰

⁸ See Issues and Decision Memorandum at Comment 4.

⁹ See Preliminary Determination PDM at 7-12.

¹⁰ See Issues and Decision Memorandum at Comment 4 for our continued denial of separate rate to Jiaxing Guihua Imp. & Exp. Co., Ltd.

Combination Rates

Consistent with the Preliminary Determination and Policy Bulletin 05.1,¹¹ Commerce calculated a producer/exporter combination rate for Jiangxi Brother and assigned this rate to the companies eligible for a separate rate.¹²

¹¹ See Enforcement and Compliance's Policy Bulletin No. 05.1, regarding, “Separate-Rates Practice and Application of Combination Rates in Antidumping Investigations involving Non-Market Economy Countries,” (April 5, 2005) (Policy Bulletin 05.1), available on Commerce's website at https://access.trade.gov/Resources/policy/bull05-1.pdf.

¹² See Preliminary Determination PDM at 7-12.

Final Determination

Commerce determines that the following estimated weighted-average dumping margins exist for the period, October 1, 2023, through March 31, 2024:

Exporter | Producer | Weighted-average dumping margin (percent) | Cash deposit rate (adjusted for subsidy offsets) (percent) ¹³
Jiangxi Brother Pharmaceutical Co., Ltd | Jiangxi Brother Pharmaceutical Co., Ltd | 190.20 | 190.15
Chongqing Thrive Fine Chemicals Co., Ltd | Chongqing Thrive Fine Chemicals Co., Ltd | 190.20 | 190.15
HongKong Wictive Merchants Co., Ltd | Kunshan Asia Aroma Corp., Ltd | 190.20 | 190.15
Kunshan Asia Aroma Corp., Ltd | Kunshan Asia Aroma Corp., Ltd | 190.20 | 190.15
Mianyang Sunshine Bio-Tech Co., Ltd | Mianyang Sunshine Bio-Tech Co., Ltd | 190.20 | 190.15
Shanghai Fuxin Fine Chemical Co., Ltd | Jiaxing Zhonghua Chemical Co., Ltd | 190.20 | 190.15
Shenzhen Siyomicro Bio-Tech Co., Ltd | Shenzhen Siyomicro Bio-Tech Co., Ltd | 190.20 | 190.15
Wuxi Lotus Essence Co., Ltd | Jiaxing Zhonghua Chemical Co., Ltd | 190.20 | 190.15
Xiamen Bestally Biotechnology Co., Ltd | Xiamen Oamic Biotech Co., Ltd | 190.20 | 190.15
China-Wide Entity |  | * 379.87 | 379.82
* Rate based on facts available with adverse inferences.

Disclosure

¹³ See Vanillin from The People's Republic of China: Final Affirmative Countervailing Duty Determination, signed concurrently with this notice; see also Final Analysis Memorandum for the export subsidy rate that we deducted from the weighted-average dumping margin to adjust the cash deposit rate.

Commerce intends to disclose the calculations performed in this final determination to interested parties within five days of any public announcement or, if there is no public announcement, within five days of the date of publication of this notice in the Federal Register in accordance with 19 CFR 351.224(b).

Continuation of Suspension of Liquidation

In accordance with section 735(c)(1)(B) of the Act, we will instruct U.S. Customs and Border Protection (CBP) to continue to suspend liquidation of all appropriate entries of subject merchandise, as described in Appendix I of this notice, which were entered, or withdrawn from warehouse, for consumption, on or after January 16, 2025, the date of publication of the Preliminary Determination in the Federal Register. These suspension of liquidation instructions will remain in effect until further notice.

Pursuant to section 735(c)(1)(B)(ii) of the Act and 19 CFR 351.210(d), upon publication of this notice, we will instruct CBP to require a cash deposit for estimated antidumping duties for appropriate entries.

Commerce will instruct CBP to require the following cash deposits of estimated antidumping duties for all appropriate entries: (1) for the producer/exporter combinations listed in the table above, the applicable cash deposit rate is listed in the table for that combination; (2) for all combinations of Chinese producers/exporters of the merchandise under consideration that have not established eligibility for separate rates, the cash deposit rate will be equal to the estimated weighted-average dumping margin established for the China-wide entity; and (3) for all third country exporters of merchandise under consideration not listed in the table above, the cash deposit rate is the cash deposit rate applicable to the Chinese producer/exporter combination (or China-wide entity) that supplied that third-country exporter or, if the exporter/producer combination does not have its own rate, the cash deposit rate will be the China-wide rate. These suspension of liquidation instructions will remain in effect until further notice.

To determine the cash deposit rate, Commerce normally adjusts the estimated weighted-average dumping margin by the amount of export subsidies countervailed in a companion countervailing duty (CVD) proceeding, when CVD provisional measures are in effect. Accordingly, where Commerce has made a final affirmative determination for countervailable export subsidies, Commerce offsets the estimated weighted-average dumping margin by the appropriate CVD rate. Commerce has continued to adjust the cash deposit rate for export subsidies in the companion CVD investigation by the appropriate export subsidy rate as indicated in the above chart. However, the suspension of liquidation of provisional measures in the companion CVD case has been discontinued; ¹⁴ therefore, we are not instructing CBP to collect cash deposits based upon the adjusted estimated weighted-average dumping margin for those export subsidies at this time. If the U.S. International Trade Commission (ITC) makes a final affirmative determination of injury due to both dumping and subsidies, then the cash deposit rate will be revised effective on the date of the publication of the ITC's final affirmative determination in the Federal Register to be the company-specific estimated weighted-average dumping margin adjusted for export subsidies.

¹⁴ See Vanillin from the People's Republic of China: Preliminary Affirmative Countervailing Duty Determination and Alignment of Final Determination with Final Antidumping Duty Determination, 89 FR 90671 (November 18, 2024), as corrected in Vanillin from the People's Republic of China: Preliminary Affirmative Countervailing Duty Determination and Alignment of Final Determination With Final Antidumping Duty Determination; Correction, 90 FR 8267 (January 28, 2025); see also section 703(d) of the Act, which states that the provisional measures may not be in effect for more than four months, which in the companion CVD case is 120 days after the publication of the preliminary determination, or March 18, 2025 (i.e., last day provisional measures are in effect).

ITC Notification

In accordance with section 735(d) of the Act, Commerce will notify the ITC of its final affirmative determination of sales at LTFV. Because Commerce's final determination is affirmative, in accordance with section 735(b)(2) of the Act, the ITC will determine, within 45 days, whether the domestic industry in the United States is materially injured, or threatened with material injury, by reason of imports of vanillin. If the ITC determines that material injury or threat of material injury does not exist, this proceeding will be terminated, all cash deposits posted will be refunded, and suspension of liquidation will be lifted. If the ITC determines that such injury does exist, Commerce will issue an antidumping duty order directing CBP to assess, upon further instruction by Commerce, antidumping duties on all imports of the subject merchandise entered, or withdrawn from warehouse, for consumption on or after the effective date of the suspension of liquidation, as discussed in the “Continuation of Suspension of Liquidation” section above.

Administrative Protective Order (APO)

This notice will serve as the only reminder to parties subject to an APO of their responsibility concerning the disposition of proprietary information disclosed under APO in accordance with 19 CFR 351.305(a)(3). Timely written notification of the return or destruction of APO materials or conversion to judicial protective order is hereby requested. Failure to comply with the regulations and terms of an APO is a violation subject to sanction.

Notification to Interested Parties

This determination is issued and published in accordance with sections 735(d) and 777(i)(1) of the Act, and 19 CFR 351.210(c).

Dated: June 2, 2025.
Christopher Abbott,
Deputy Assistant Secretary for Policy and Negotiations, performing the non-exclusive functions and duties of the Assistant Secretary for Enforcement and Compliance.

Appendix I

Scope of the Investigation

The merchandise covered by the investigation is vanillin, with the molecular formula C8H8O3 or C9H10O3. For purposes of this investigation, vanillin consists of natural vanillin, synthetic vanillin, bio-sourced synthetic vanillin (biovanillin) (each also known as 4-Hydroxy-3- methoxybenzaldehyde), and ethylvanillin (also known as 3-Ethoxy-4- hydroxybenzaldehyde). Vanillin covered by this investigation is a chemical compound with the Chemical Abstracts Service (CAS) number 121-33-5 or 121-32-4. Vanillin is covered by the investigation regardless of whether it is in a crystalline powder or crystal form. Vanillin is covered by the scope of the investigation, irrespective of purity, particle size, or physical form.

Merchandise subject to the investigation is specified within the Harmonized Tariff Schedule of the United States (HTSUS) under subheading 2912.41.0000 and 2912.42.0000. The HTSUS subheadings and CAS registry numbers are provided for convenience and customs purposes only. The written description of the merchandise covered by the investigation is dispositive.

Appendix II

List of Topics Discussed in the Issues and Decision Memorandum

I. Summary

II. Background

III. Scope of the Investigation

IV. Changes Since the Preliminary Determination

V. Discussion of the Issues

Comment 1: Glyoxylic Acid

Comment 2: Hydroquinone

Comment 3: Financial Statements

Comment 4: Separate Rate Denial

Comment 5: Verification Request

VI. Recommendation

[FR Doc. 2025-10347 Filed 6-5-25; 8:45 am]

BILLING CODE 3510-DS-P